DEPARTMENT OF ENERGY

Federal Energy Regulatory Commission

[Project No. 4827-003]

Mill Shoals Hydro Company, Inc.; High Shoals, LLC; Notice of Transfer of Exemption

1. By letter filed April 24, 2015,¹ William B. Conway, Jr., Counsel for Enel Green Power North America, Inc. (EGPNA),² informed the Commission that the exemption from licensing for the High Shoals Project, FERC No. 4827, originally issued November 10, 1981,³ has been transferred to High Shoals, LLC, an affiliate of Enel Green Power. The project is located on the Catawba River in Gaston County, North Carolina. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 17 FERC ¶ 62,224, Order Granting Exemption from Licensing of a Small Hydroelectric Project of 5 Megawatts or Less and Denying Application for Preliminary Permit (1981).

2. High Shoals, LLC is now the exemptee of the High Shoals Project, FERC No. 4827. All correspondence should be forwarded to: High Shoals, LLC, c/o Enel Green Power North America, Inc., Attn: General Counsel, 1 Tech Drive, Suite 220, Andover, MA 01810.

Dated: May 18, 2015.
Kimberly D. Bose,
Secretary.

[FR Doc. 2015-12475 Filed 5-21-15; 8:45 am]

BILLING CODE 6717-01-P